DEPARTMENT OF ENERGY

Federal Energy Regulatory Commission

Combined Notice of Filings #1

June 28, 2010.

Take notice that the Commission received the following electric corporate filings:

Docket Numbers: EC10-76-000.

Applicants: Vantage Wind Energy LLC.

Description: Vantage Wind Energy LLC submits their Application for Authorization Under Section 203 of the Federal Power Act and Request for Waivers and Expedited Action.

Filed Date: 06/25/2010.

Accession Number: 20100625-5140.

Comment Date: 5 p.m. Eastern Time on Friday, July 16, 2010.

Take notice that the Commission received the following exempt wholesale generator filings:

Docket Numbers: EG10-49-000.

Applicants: Synergics Roth Rock Wind Energy, LLC.

Description: Self-Certification of EWG Status of Synergics Roth Rock Wind Energy, LLC.

Filed Date: 06/28/2010.

Accession Number: 20100628-5084.

Comment Date: 5 p.m. Eastern Time on Monday, July 19, 2010.

Take notice that the Commission received the following electric rate filings:

Docket Numbers: ER01-48-016.

Applicants: Powerex Corp.

Description: Powerex Corp submits errata to its Dec 11, 2009 notice of change in status.

Filed Date: 06/24/2010.

Accession Number: 20100625-0031.

Comment Date: 5 p.m. Eastern Time on Thursday, July 15, 2010.

Docket Numbers: ER01-2217-010.

Applicants: Sunrise Power Company, LLC.

Description: Errata to June 25, 2010 Market Based Rate Update of Sunrise Power Company, LLC.

Filed Date: 06/28/2010.

Accession Number: 20100628-5066.

Comment Date: 5 p.m. Eastern Time on Monday, July 19, 2010.

Docket Numbers: ER01-2233-007.

Applicants: GWF Energy LLC.

Description: Triennial Market-Based Rate Update of GWF Energy LLC.

Filed Date: 06/25/2010.

Accession Number: 20100625-5162.

Comment Date: 5 p.m. Eastern Time on Tuesday, August 24, 2010.

Docket Numbers: ER03-753-006.

Applicants: Entergy Services, Inc.

Description: Entergy Services, Inc submits notice that ELL and EGSL have entered into a transaction pursuant to Service Schedule MSS-4 of the Entergy System Agreement.

Filed Date: 06/24/2010.

Accession Number: 20100625-0201.

Comment Date: 5 p.m. Eastern Time on Thursday, July 15, 2010.

Docket Numbers: ER07-758-000.

Applicants: Inland Empire Energy Center, L.L.C.

Description: Triennial Market Power Analysis of Inland Empire Energy Center, LLC.

Filed Date: 06/24/2010.

Accession Number: 20100624-5145.

Comment Date: 5 p.m. Eastern Time on Monday, August 23, 2010.

Docket Numbers: ER04-1244-002.

Applicants: NorthPoint Energy Solutions Inc.

Description: Notification of Non-Material Change in Status of NorthPoint Energy Solutions Inc.

Filed Date: 06/25/2010.

Accession Number: 20100625-5144.

Comment Date: 5 p.m. Eastern Time on Friday, July 16, 2010.

Docket Numbers: ER10-1230-001.

Applicants: The Detroit Edison Company.

Description: The Detroit Edison Company submits clean and redline versions of the revised Service Agreement.

Filed Date: 06/24/2010.

Accession Number: 20100625-0204.

Comment Date: 5 p.m. Eastern Time on Thursday, July 01, 2010.

Docket Numbers: ER10-1563-000.

Applicants: California Independent System Operator Corporation

Description: California Independent System Operator Corporation submits tariff filing per 35.12: 2010-06-28 CAISO Baseline Filing to be effective 6/28/2010.

Filed Date: 06/28/2010.

Accession Number: 20100628-5071.

Comment Date: 5 p.m. Eastern Time on Monday, July 19, 2010.

Docket Numbers: ER10-1564-000.

Applicants: Cabrillo Power I LLC.

Description: Cabrillo Power I LLC submits tariff filing per 35.12: Cabrillo I—FERC Electric Tariff to be effective 6/28/2010.

Filed Date: 06/28/2010.

Accession Number: 20100628-5075.

Comment Date: 5 p.m. Eastern Time on Monday, July 19, 2010.

Docket Numbers: ER10-1565-000.

Applicants: Cabrillo Power II LLC.

Description: Cabrillo Power II LLC submits tariff filing per 35.12: Cabrillo Power II—FERC Electric Tariff to be effective 6/28/2010.

Filed Date: 06/28/2010.

Accession Number: 20100628-5097.

Comment Date: 5 p.m. Eastern Time on Monday, July 19, 2010.

Docket Numbers: ER10-1566-000.

Applicants: El Segundo Power LLC.

Description: El Segundo Power LLC submits tariff filing per 35.12: El Segundo Power—FERC Electric Tariff to be effective 6/28/2010.

Filed Date: 06/28/2010.

Accession Number: 20100628-5100.

Comment Date: 5 p.m. Eastern Time on Monday, July 19, 2010.

Docket Numbers: ER10-1568-000.

Applicants: Long Beach Generation LLC.

Description: Long Beach Generation LLC submits tariff filing per 35.12: Long Beach Generation—FERC Electric Tariff to be effective 6/28/2010.

Filed Date: 06/28/2010.

Accession Number: 20100628-5102.

Comment Date: 5 p.m. Eastern Time on Monday, July 19, 2010.

Docket Numbers: ER10-1569-000.

Applicants: NRG Power Marketing LLC.

Description: NRG Power Marketing LLC submits tariff filing per 35.12: NRG PML—FERC Electric Tariff to be effective 6/28/2010.

Filed Date: 06/28/2010.

Accession Number: 20100628-5103.

Comment Date: 5 p.m. Eastern Time on Monday, July 19, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Kimberly D. Bose,
Secretary.

[FR Doc. 2010-16296 Filed 7-2-10; 8:45 am]

BILLING CODE 6717-01-P